DEPARTMENT OF AGRICULTURE

Agricultural Marketing Service

[Document No. AMS-TM-21-0078]

Farm and Food Workers Relief Grant Program; Request for Emergency Approval of a New Information Collection

AGENCY: Agricultural Marketing Service, USDA.

ACTION: Notice of emergency request.

SUMMARY: In accordance with the Paperwork Reduction Act of 1995, the U.S. Department of Agriculture (USDA) Agricultural Marketing Service (AMS) has requested emergency approval from the Office of Management and Budget (OMB) for a new information collection described in this notice to administer the Farm and Food Workers Relief Grant Program, a new competitive grant program authorized by the Consolidated Appropriations Act, 2021.

DATES: Submit comments on or before December 17, 2021.

ADDRESSES: Interested persons are invited to submit comments concerning this notice by using the electronic process available at www.regulations.gov. Written comments may also be submitted to Grants Division; Transportation and Marketing Program; AMS; USDA; 1400 Independence Avenue SW, Room 2055-South Building, Stop 0201; Washington, DC 20250-0264. All comments should reference the docket number AMS-TM-21-0078, the date of submission, and the page number of this issue of the Federal Register. All comments received will be posted without change, including any personal information provided, at www.regulations.gov and will be included in the record and made available to the public.

FOR FURTHER INFORMATION CONTACT: John Miklozek, Director, Grants Division; (202) 720-1403 or email John.Miklozek@usda.gov.

SUPPLEMENTARY INFORMATION:

Overview of This Information Collection

Agency: USDA, AMS.

Title: New Grant Program Information Request.

OMB Number: 0581-NEW.

Type of Request: Emergency Approval of a New Information Collection.

Abstract: The Consolidated Appropriations Act, 2021 (Pub. L. 116-260) directed the Secretary of Agriculture to provide “grants and loans to small or midsized food processors or distributors, seafood processing facilities and processing vessels, farmers markets, producers, or other organizations to respond to coronavirus, including for measures to protect workers against the Coronavirus Disease 2019 (COVID-19).” The information collection described in this emergency request is necessary for AMS to expeditiously administer the new competitive Farm and Food Workers Relief (FFWR) Grant Program under OMB No. 0581-NEW in order to provide relief to workers impacted by the COVID-19 pandemic.

FFWR is authorized pursuant to Title VII, subtitle B, section 751 of the Consolidated Appropriations Act, 2021 in response to the ongoing COVID-19 pandemic and the need for worker protections. USDA AMS requests to collect information for this new grant program from grant applicants, including state agencies, tribal entities and non-profit organizations working to support farm workers, meatpacking workers, and grocery workers.

The information collected from respondents is for application to this voluntary, competitive grant program. The information collected is used only by authorized representatives of USDA, AMS, Transportation and Marketing Program's Grants Division to determine applicant eligibility and the data collected is the minimum information necessary to effectively carry out the program requirements.

This emergency information collection is necessary to enable USDA AMS to immediately publish a Request for Applications (RFA) and enable eligible entities to prepare their applications for submission.

Upon OMB approval of the emergency FFWR information collection package, AMS will initiate a normal information collection approval.

Estimate of Burden: Public reporting burden for this information collection is estimated to average 32 hours per response.

Respondents: 40 Grant applicants; or grant recipients.

Estimated Number of Respondents: 40.

Estimated Total Annual Responses including Recordkeeping: 934.

Estimated Number of Responses per Respondent: 38.

Estimated Total Annual Burden on Respondents and Recordkeepers: 1,882 hours.

Comments are invited on: (1) Whether the proposed information collection is necessary for the proper performance of the functions of the agency, including whether the information will have practical utility; (2) the accuracy of the agency's estimate of the burden of the new information collection including the validity of the methodology and assumptions used; (3) ways to enhance the quality, utility, and clarity of the collected information; and (4) ways to minimize the burden of the information collection on those who are to respond, including the use of appropriate automated, electronic, mechanical, or other technological collection techniques or other forms of information technology.

Erin Morris,
Associate Administrator, Agricultural Marketing Service.

[FR Doc. 2021-22620 Filed 10-15-21; 8:45 am]

BILLING CODE P